ENVIRONMENTAL PROTECTION AGENCY

[CERCLA-R04-2020-2506; FRL-10014-01-Region 4]

Charlotte Bay Trading Company; Notice of Settlement

AGENCY: Environmental Protection Agency (EPA).

ACTION: Notice of proposed settlement.

SUMMARY: The United States Environmental Protection Agency (EPA) proposes to enter into a Settlement Agreement for Recovery of Past Response Costs with R.T. Godley Investments III, LLC concerning the Charlotte Bay Trading Company Site located in Charlotte, North Carolina. The settlement addresses recovery of CERCLA costs for a cleanup action performed by the EPA at the Site.

DATES: The Agency will consider public comments on the settlement until October 14, 2020. The Agency will consider all comments received and may modify or withdraw its consent to the proposed settlement if comments received disclose facts or considerations which indicate that the proposed settlement is inappropriate, improper, or inadequate.

ADDRESSES: Copies of the settlement are available from the Agency by contacting Ms. Paula V. Painter, Program Analyst, using the contact information provided in this notice or through the Agency's web page https://www.epa.gov/aboutepa/about-epa-region-4-southeast#r4-public-notices. Comments may be submitted by referencing the Site's name or Docket # CERCLA-04-2020-2506 through email to Painter.Paula@epa.gov.

FOR FURTHER INFORMATION CONTACT: Paula V. Painter at 404-562-8887.

Authority: 122(h) of the Comprehensive Environmental Response, Compensation and Liability Act (CERCLA).

Dated: August 26, 2020.
Maurice Horsey,
Chief, Enforcement Branch, Superfund & Emergency Management Division.

[FR Doc. 2020-20139 Filed 9-11-20; 8:45 am]

BILLING CODE 6560-50-P